DEPARTMENT OF COMMERCE

National Telecommunications and Information Administration

Digital-to-Analog Converter Box Coupon Program Public Meeting

AGENCY: National Telecommunications and Information Administration (NTIA), U.S. Department of Commerce

ACTION: Notice of Public Meeting

SUMMARY: NTIA will hold a public meeting on September 25, 2007, in connection with its Digital-to-Analog Converter Box Coupon Program described in the Final Rule that was released on March 12, 2007.

DATES: The meeting will be held on September 25, 2007, from 9 a.m. to 1 p.m., Eastern Standard Time.

ADDRESSES: The meeting will be held at the U.S. Department of Commerce, National Telecommunications and Information Administration, 1401 Constitution Avenue, NW., Auditorium, Washington, DC (Please enter at 14th Street). The handicapped accessible entrance is located at the 14th Street Aquarium Entrance.

FOR FURTHER INFORMATION CONTACT: Francine Jefferson, Consumer Education Manager, at (202) 482-5560.

SUPPLEMENTARY INFORMATION: NTIA will host a public meeting to discuss progress in educating the public about the Digital-to-Analog Converter Box Coupon Program. Detailed information about the Coupon Program is available at http://www.ntia.doc.gov/dtvcoupon.

Public attendance at the meeting is limited to space available. The meeting will be physically accessible to people with disabilities. Individuals requiring special services, such as sign language interpretation or other ancillary aids, are asked to indicate this to Francine Jefferson at least two (2) days prior to the meeting. Members of the public will have an opportunity to ask questions at the meeting. The meeting will be recorded, and a transcript will be made available on NTIA's website. Individuals who would like to submit questions in writing should e-mail their questions to Francine Jefferson at: fjefferson@ntia.doc.gov.

Dated: July 16, 2007.
Kathy D. Smith,
Chief Counsel, National Telecommunications and Information Administration.

[FR Doc. E7-14021 Filed 7-19-07; 8:45 am]

BILLING CODE 3510-60-S